DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders with June anniversary dates. In accordance with Commerce's regulations, we are initiating those administrative reviews.

DATES: Applicable August 3, 2023.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with June anniversary dates.

All deadlines for the submission of various types of information, certifications, or comments or actions by Commerce discussed below refer to the number of calendar days from the applicable starting time.

Notice of No Sales

With respect to antidumping administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than June 30, 2024.

| Period to be reviewed
AD Proceedings
ARGENTINA: Raw Honey, A-357-823 | 11/23/21-5/31/23
Algodonera Avellaneda S.A
Apicola Danangie
Asociación de Cooperativas Argentinas C.L
Argentik LLC
Azul Agronegocios S.A
Camino de Circunvalancion y Calle
Compaia Apicola Argentina S.A
Compania Inversora Platense S.A
Cooperativa Apicola La Colmena Ltda
D'Ambros Maria de Los Angeles y D'Ambros Maria Daniela SRL
Gasrroni S.R.L
Geomiel S.A
Gruas San Blas S.A
Honey & Grains Srl
Industrial Haedo S.A
Industrias Haedo S.A
Mieles Cor Pam Srl
Naiman S.A
Newsan S.A
Nexco S.A
Patagonik Food S.A., Patagonik S.A., Azul Argronegocios S.A
Promiel Srl (Vicentin S.A.I.C.)
Terremare Foods S.A.S
Villamora S.A
BRAZIL: Raw Honey, A-351-857 | 11/23/21-5/31/23
Apidouro Comercial Exportadora E Importadora Ltda
Apiários Adams Agroindustrial Comercial Exportadora Ltda
Apis Nativa Agroindustrial Exportadora Ltda
Breyer & Cia. Ltda
Carnauba Do Brasil Ltda
Central De Cooperativas Apicolas Do (CASA APIS)
Cooperativa Mista Dos Apicultores D
Flora Nectar
Lambertucci
Minamel
Nectar Floral
Novomel
S & A Honey Ltda
Safe Logistics
Samel Honey
STM Trading
Wenzel's Apicultura
Melbras Importadora E Exportadora Agroindustrial Ltda
Apiário Diamante Comercial Exportadora Ltda/Apiário Diamante Produção e Comercial de Mel Ltda (Supermel)
Central de Cooperativas Apícolas do Semiárido Brasileiro—CASA APIS
Floranectar Ind. Comp. Imp. E Exp. De Mel
Minamel Agroindústria Ltda
Annamell Imp. E Exp. De Produtos Apicoloas Ltda
Conexão Agro Ltda ME
Wenzel's Apicultura Comercio Industria Importacao E Exportacao Ltda
GERMANY: Certain Cold-Drawn Mechanical Tubing of Carbon and Alloy Steel, A-428-845 | 6/1/22-5/31/23
BENTELER Steel/Tube GmbH
Benteler Distribution International GmbH
Mubea Fahrwerksfedern GmbH
Salzgitter AG, Salzgitter Mannesmann Line Pipe GmbH, Salzgitter Mannesmann Precision Tubes GmbH
India: Certain Cold-Drawn Mechanical Tubing of Carbon and Alloy Steel, A-533-873 | 6/1/22-5/31/23
Goodluck India Limited
Salem Steel N.A., LLC
Tube Product of India, Ltd., a unit of Tube Investments of India Limited
INDIA: Glycine, A-533-883 | 6/1/22-5/31/23
Aditya Chemicals
Adwith Nutrichem Private Limited
Alchemos Private Limited
Alka Chemical Industries
Alkanb Chemicals
Avid Organics Private Limited
Bajaj Healthcare Limited
Eagle Chemical Works
Global Merchants
Indiana Chem-Port
J.R. International
Jain Specialty Fine Chemicals
JR Corporation
Kaaha Overseas
Kronox Lab Sciences Ltd
Kumar Industries
Ladleadd
Lucas-Tvs Limited
Medbion Healthcare Private Limited
Medilane Healthcare Pvt. Ltd
Meteoric Biopharmaceuticals
Natural and Essential Oils Private Limited
Pan Chem Corporation
Papchem Lifesciences (Opc) Private Limited
Paras Intermediates Private Limited
Reliance Rasayan Pvt. Ltd
Rexisize Rasayan Industries
Shari Pharmachem Pvt., Ltd
Tarkesh Trading Company
Venus International
INDIA: Quartz Surface Products, A-533-889 | 6/1/22-5/31/23
3HQ Surfaces Pvt. Ltd
Advantis Quartz LLP
Amazoone Ceramics Ltd
Antique Granito Shareholders Trust
Antique Marbonite Pvt Ltd/Prism Johnson Limited/Shivam Enterprises
Argil Ceramics
ARO Granite Industries Ltd
ASI Industries Limited
Asian Granito India Ltd
Baba Super Minerals Pvt Ltd
Camrola Quartz Limited
Chaitanya International Minerals LLP
Classic Marble Co Pvt Ltd
Colors of Rainbow
Cuarzo
Divine Surfaces Private Limited
Divya Shakti Granites Ltd
Divya Shakti Ltd
EELQ Stone LLP
Esprit Stones Pvt Ltd
Evetis Stone Pvt Ltd
Geetanjali Quartz Pvt Ltd
Global Stones Pvt. Ltd
Global Surfaces Ltd
Glowstone Industries Pvt Ltd
GS Exim
Haique Stones Inc
Hi Elite Quartz LLP
Imperiaal Granimarmo Pvt Ltd
INANI Marble and Industries Ltd
Indus Trade and Technology LLC
Internaational Stones India Pvt. Ltd
Jyothi Quartz Surfaces
Keros Stone LLP
Krishna Sai Exports
Mahi Granites Pvt Ltd
Malbros Marbles and Granites Industries
Marudhar Quartz Surface Private Limited
Marudhar Rocks International Private Limited
Modern Surface Inc
Mountmine Impex Pvt Ltd
MQ surfaces Pvt Ltd
Nice Quartz and Stones Pvt Ltd
Pacific Industries Ltd
Pacific Quartz Surfaces LLP
Paradigm Granite Pvt Ltd
Paradigm Stone India Pvt Ltd
Pelican Buildmat Pvt Ltd
Pelican Grani Marmo Pvt. Ltd
Pelican Quartz Stone
PM Quartz Surfaces Pvt Ltd
Pokarna Engineered Stone Limited
Pristine Quartz Pvt. Ltd
QuartzKraft LLP
Renshou Industries
RMC Readymix Porselano India Limited
Rocks Forever
Rudra Quartz LLP
Safayar Ceramics Pvt Ltd
Satya Exports
Shanmukha Exports
Shivam Surface India LLP
Southern Rocks and Minerals Pvt Ltd
Square Ft. Marble and granite
Stone Empire Pvt. Ltd
Sunex Stones Pvt Ltd
SVG Exports Pvt Ltd
Taanj Quartz Inc
Tab India Granites Pvt. Ltd
Tab Quartz
Trident Surface
Universal Marketing Agencies Private Limited
Universal Quartz & Natural Stones Pvt Ltd
Universall Granites
Venkata Sri Balaji Quartz Surfaces
INDIA: Raw Honey, A-533-903 | 11/23/21-5/31/23
AA Food Factory
Allied Natural Product
Alpro
Ambrosia Natural Products (India) Private Limited/Ambrosia Enterprise/Sunlite India Agro Producer Co., Ltd
Aone Enterprises
Apis India Limited
Apl Logistics
Bee Hive Farms
Brij Honey Pvt., Ltd
Dabur India Limited
Ess Pee Quality Products
Ganpati Natural Products
GMC Natural Product
Hi Tech Natural Products India Ltd
Indocan Honey Pvt., Ltd
Infinator Pvt., Ltd
Kejriwal Bee Care India Private Limited
KK Natural Food Industries LLP
Natural Agro Foods
NYSA Agro Foods
Pearlcot Enterprises
Queenbee Foods Pvt. Ltd
Salt Range Foods Pvt. Ltd
Shakti Api Foods Private Limited
Shakti Apifoods Pvt Ltd
Shan Organics
Shiv Apiaries
Sunlite Organic
UTMT
Vedic Systems
Yieppie Internationals
ITALY: Certain Cold-Drawn Mechanical Tubing of Carbon and Alloy Steel, A-475-838 | 6/1/22-5/31/23
Dalmine S.p.A
JAPAN: Glycine, A-588-878 | 6/1/22-5/31/23
Nagase & Co., Ltd
Showa Denko K.K
Yuki Gosei Kogyo Co., Ltd
MALAYSIA: Prestressed Concrete Steel Wire Strand, A-557-819 | 6/1/22-5/31/23
Kiswire Sdn. Bhd
Southern PC Steel Sdn. Bhd
Southern Steel Sdn. Bhd
Wei Dat Steel Wire Sdn. Bhd
SOCIALIST REPUBLIC OF VIETNAM: Raw Honey ⁵, A-552-833 | 8/25/21-5/31/23
Ban Me Thuot Honeybee JSC
Bao Nguyen Honeybee Co., Ltd
Bee Honey Corporation of Ho Chi Minh City
Daisy Honey Bee Joint Stock Company
Dak Nguyen Hong Exploitation of Honey Company Limited TA
Daklak Honey Bee JSC
Daklak Honeybee Joint Stock Company
Dong Nai Honey Bee Corp
Dongnai HoneyBee Corporation
Golden Bee Company Limited
Golden Honey Co., Ltd
Hai Phong Honeybee Company Limited
Hanoi Honey Bee Joint Stock Company
Highlands Honeybee Travel Co., Ltd
Hoa Viet Honeybee One Member Company Limited
Hoa Viet Honeybee Co., Ltd
Hoang Tri Honey Bee Co., Ltd
Hung Binh Phat
Hung Thinh Trading Pvt
Huong Rung Co., Ltd
Huong Rung Trading-Investment and Export Company Limited
Huong Viet Honey Co., Ltd
Hung Thinh Trading Pvt
Nguyen Hong Honey Co., LTDTA
Nhieu Loc Company Limited
Phong Son Co., Ltd
Saigon Bees Co., Limited
Southern Honey Bee Company LTD
Thai Hoa Viet Mat Bees Raising Co
Thanh Hao Bees Co., Ltd
TNB Foods Co., Ltd
Viet Thanh Food Co., Ltd
Vinawax Producing Trading and Service Company Limited
SPAIN: Chlorinated Isocyanurates, A-469-814 | 6/1/22-5/31/23
Electroquímica de Hernani, S.A
Ercros, S.A
Industrias Químicas Tamar, S.L. Polígono
SPAIN: Finished Carbon Steel Flanges, A-469-815 | 6/1/22-5/31/23
Aleaciones De Metales Sinterizados S.A
Central Y Almacenes
Farina Group Spain
Friedrich Geldbach Gmbh
Grupo Cunado
Transglory S.A
Tubacero, S.L
ULMA Forja, S.Coop
SPAIN: Prestressed Concrete Steel Wire Strand, A-469-821 | 6/1/22-5/31/23
Global Special Steel Products S.A.U. (d.b.a. Trenzas y Cables de Acero PSC, S.L. (TYCSA))
SWITZERLAND: Certain Cold-Drawn Mechanical Tubing of Carbon and Alloy Steel, A-441-801 | 6/1/22-5/31/23
Benteler Rothrist AG
Mubea Präzisionsstahlrohr AG/Mubea Inc
THE PEOPLE'S REPUBLIC OF CHINA: Chlorinated Isocyanurates, A-570-898 | 6/1/22-5/31/23
Heze Huayi Chemical Co., Ltd
Juancheng Kangtai Chemical Co., Ltd
THE PEOPLE'S REPUBLIC OF CHINA: Tapered Roller Bearings, A-570-601 | 6/1/22-5/31/23
C&U Group Shanghai Bearing Co., Ltd
Hangzhou C&U Automotive Bearing Co., Ltd
Hangzhou C&U Metallurgy Bearing Co., Ltd
Huangshi C&U Bearing Co., Ltd
Shanghai Tainai Bearing Co., Ltd
Sichuan C&U Bearing Co., Ltd
THE PEOPLE'S REPUBLIC OF CHINA: Aluminum Foil ⁶ | 4/1/22-3/31/23
Manakin Industries, LLC
TURKEY: Quartz Surface Products, A-489-837 | 6/1/22-5/31/23
AKG Yalitim ve Insaat Malzemeleri Sanayi ve Ticaret A.S
Belenco Dis Ticaret A.S (aka Belenco dis Tikaret A.S.)/Peker Yuzey Tasarmlar
Sanayi ve Ticaret A.S
UKRAINE: Prestressed Concrete Steel Wire Strand, A-823-817 | 6/1/22-5/31/23
PJSC Stalkanat
CVD Proceedings Period to be Reviewed
INDIA: Glycine, C-533-884 | 1/1/22-12/31/22
Aditya Chemicals
Adwith Nutrichem Private Limited
Alchemos Private Limited
Alka Chemical Industries
Alkanb Chemicals
Avid Organics Private Limited
Bajaj Healthcare Limited
Eagle Chemical Works
Global Merchants
Indiana Chem-Port Pan Chem Corporation
J.R. International
Jain Specialty Fine Chemicals
Jr Corporation
Kaaha Overseas
Kronox Lab Sciences Ltd
Kumar Industries, India.⁷
Ladleadd
Lucas-Tvs Limited
Medbion Healthcare Private Limited
Medilane Healthcare Pvt. Ltd
Meteoric Biopharmaceuticals
Natural And Essential Oils Private Limited
Papchem Lifesciences (Opc) Private Limited
Paras Intermediates Private Limited
Reliance Rasayan Pvt. Ltd
Rexisize Rasayan Industries
Rudraa International
Shari Pharmachem Pvt., Ltd
Tarkesh Trading Company
Venus International
INDIA: Quartz Surface Products, C-533-890 | 1/1/22-12/31/12
Advantis Quartz LLP
Antique Marbonite Pvt. Ltd/Antique Granito Shareholders Trust/Shivam
Enterprises/Prism Johnson Limited
Argil Ceramics
ARO Granite Industries Limited
ASI Industries Limited
Baba Super Minerals Pvt Ltd
Camrola Quartz Limited
Classic Marble Company Pvt Ltd
Cuarzo
Divine Surfaces Private Limited
EELQ Stone LLP
Esprit Stones Pvt. Ltd
Evetis Stone India Pvt. LTD
Geetanjali Quartz Inc
Global Surfaces Ltd
Global Stones Pvt. Ltd
Glowstone Industries Pvt Ltd
GS Exim
Haique Stones Inc
Imperiaal Granimarmo Pvt Ltd
Jyothi Quartz Surfaces
Keros Stone LLP
Mahi Granites Private Limited
Marudhar Rocks International Pvt Ltd
Marudhar Quartz Surfaces Private Limited
Modern Surface Inc
Pacific Industries Limited
Pacific Quartz Surfaces LLP
Paradigm Stone India Pvt Ltd
Pokarna Engineered Stone Limited
Renshou Industries
Rocks Forever
Rudra Quartz LLP
Safayar Ceramics Pvt Ltd
Satya Exports
Shanmukha Exports
Southern Rocks & Minerals
Stone Empire Pvt. Ltd
Sunex Stones Private Limited
Taanj Quartz Inc
Trident Surface
Venkata Sri Balaji Quartz Surfaces
TURKEY: Quartz Surface Products, C-489-838 | 1/1/22-12/31/22
AKG Yalitim ve Insaat Malzemeleri Sanayi ve Ticaret A.S
Belenco Dis Ticaret A.S. (aka Belenco dis Tikaret A. S.)/Peker Yuzey Tasarimlari
Sanayi ve Ticaret A.S
Ermaş Madencilik Turizm Sanayi Ve Ticaret A.Ş
Suspension Agreements
None

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

⁵ In the notice of opportunity to request administrative review for June anniversary orders that published on June 1, 2023 (88 FR 35835), Commerce inadvertently listed an incorrect period of review. The correct period of review is listed above.

⁶ In a prior Initiation notice regarding Antidumping Duty Orders with April anniversary dates, Commerce inadvertently omitted a company name for which it received a timely request for review. See Initiation of Antidumping and Countervailing Duty Administrative Reviews, 88 FR 38021 (June 12, 2023) (April Anniversary Initiation Notice); see also Letter from Amcor to Commerce, “Administrative Review of the Antidumping Duty Order on Certain Aluminum Foil from the People's Republic of China: Request for Administrative Review” dated May 1, 2023. Accordingly, we are hereby correcting the April Anniversary Initiation Notice to include “Manakin Industries, LLC” as a respondent in the administrative review of the antidumping duty order on Certain Aluminum Foil from the People's Republic of China (A-570-053) for the POR: 4/1/22-3/31/23.”

⁷ GEO Specialty Chemicals, Inc. (GEO), a domestic producer of glycine, requested a review for “Kumar Industries.” We confirmed that GEO intended to request a review for “Kumar Industries, India.” See Memorandum, “Phone Conversation with an Interested Party,” dated July 20, 2023.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁸ available at www.govinfo.gov/content/pkg/FR-2013-07-17/pdf/2013-17045.pdf, prior to submitting factual information in this segment. Note that Commerce has temporarily modified certain of its requirements for serving documents containing business proprietary information, until further notice.⁹

⁸ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁹ See Temporary Rule Modifying AD/CVD Service Requirements Due to COVID-19; Extension of Effective Period, 85 FR 41363 (July 10, 2020).

Any party submitting factual information in an AD or CVD proceeding must certify to the accuracy and completeness of that information using the formats provided at the end of the Final Rule.¹⁰ Commerce intends to reject factual submissions in any proceeding segments if the submitting party does not comply with applicable certification requirements.

¹⁰ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹¹ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹¹ See 19 CFR 351.302.

These initiations and this notice are in accordance with section 751(a) of the Act (19 U.S.C. 1675(a)) and 19 CFR 351.221(c)(1)(i).

Dated: July 28, 2023.
James Maeder,
Deputy Assistant Secretary for Antidumping and Countervailing Duty Operations.

[FR Doc. 2023-16534 Filed 8-2-23; 8:45 am]

BILLING CODE 3510-DS-P